ENVIRONMENTAL PROTECTION AGENCY

[ER-FRL-9051-6]

Environmental Impact Statements; Notice of Availability

Responsible Agency: Office of Federal Activities, General Information 202-564-5632 or https://www.epa.gov/nepa.

Weekly receipt of Environmental Impact Statements (EIS).

Filed June 22, 2020, 10 a.m. EST Through June 26, 2020, 10 a.m. EST.

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20200134, Final, USACE, FL, Combined Operational Plan, Review Period Ends: 08/03/2020, Contact: Melissa Nasuti 904-232-1368.

Amended Notice

EIS No. 20200068, Draft, NMFS, MA, Northeast Multispecies Fishery Management Plan Draft Amendment 23, Comment Period Ends: 08/31/2020, Contact: Mark Grant 978-281-9145.

Revision to FR Notice Published 5/29/2020; Extending the Comment Period from 6/30/2020 to 8/31/2020.

EIS No. 20200100, Draft Supplement, NCPC, DHS, GSA, DC, St. Elizabeth's Master Plan Amendment 2, Comment Period Ends: 07/16/2020, Contact: Paul Gyamfi 202-440-3405.

Revision to FR Notice Published 5/8/2020; Extending the Comment Period from 7/2/2020 to 7/16/2020.

EIS No. 20200120, Draft, FRA, DC, Washington Union Station Expansion Project, Comment Period Ends: 09/28/2020, Contact: David Valenstein 202-493-6368.

Revision to FR Notice Published 6/12/2020; Extending the Comment Period from 7/27/2020 to 9/28/2020.

Dated: June 29, 2020.
Cindy S. Barger,
Director, NEPA Compliance Division, Office of Federal Activities.

[FR Doc. 2020-14301 Filed 7-1-20; 8:45 am]

BILLING CODE 6560-50-P